DEPARTMENT OF ENERGY

Federal Energy Regulatory Commission

Notice of Application Ready for Comments, Recommendations, Terms and Conditions, and Prescriptions and Establishing a Revised Procedural Schedule for Relicensing

March 15, 2005.

Take notice that the following hydroelectric application has been filed with the Commission and is available for public inspection.

a. Type of Application: New Major License.

b. Project No.: 2195-011.

c. Date filed: August 26, 2004.

d. Applicant: Portland General Electric Company.

e. Name of Project: Clackamas River Hydroelectric Project, P-2195 (formerly Oak Grove, P-135 and North Fork, P-2195 projects).

f. Location: On the Oak Grove Fork of the Clackamas River on Mount Hood National Forest, and on the Clackamas River in Clackamas County, Oregon, near Estacada, Oregon.

g. Filed Pursuant to: Federal Power Act, 16 U.S.C. 791(a)-825(r).

h. Applicant Contact: Julie Keil, Portland General Electric, 121 SW Salmon Street, Portland, Oregon 97204, Phone: 503-464-8864.

i. FERC Contact: John Blair at 202-502-6092; e-mail john.blair@ferc.gov.

j. Deadlines for filing license amendments, comments, recommendations, terms and conditions are listed in item “o” of this notice, Procedural Schedule.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Amendments, comments, recommendations, terms and conditions and prescriptions may be filed electronically via the Internet in lieu of paper. The Commission strongly encourages electronic filings. See 18 CFR 385.2001(a)(1)(iii) and the instructions on the Commission's Web site (http://www.ferc.gov) under the “e-Filing” link.

k. This application has been accepted for filing.

l. The existing 44-megawatt Oak Grove development consists of a 100-foot-high dam at the lower end of Timothy Lake, and a 68-foot-high diversion dam below Lake Harriet, both on the Oak Grove Fork of the Clackamas River. The powerhouse is located on the Clackamas River. A 115 kV transmission line runs 18.8 miles to the Faraday switchyard. The Oak Grove development is located on U.S. Forest Service and Bureau of Land Management land. The 129-megawatt North Fork development is located on the Clackamas River and is composed of: a 206-foot-high dam with powerhouse located at the lower end of North Fork Reservoir; a 47-foot-high dam with powerhouse located at the lower end of Faraday Lake; and a 85-foot-high dam with powerhouse located at the lower end of Estacada Lake. A 115 kV transmission line runs 4 miles to the Faraday switchyard. The North Fork development is located on U.S. Forest Service and Bureau of Land Management land. On June 18, 2003, Oak Grove and North Fork licenses were amended combining the two projects into one license called the Clackamas River Project No. 2195.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

All filings must (1) bear in all capital letters the title “COMMENTS,” “REPLY COMMENTS,” “RECOMMENDATIONS,” “TERMS AND CONDITIONS,” or “PRESCRIPTIONS,” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirement of 18 CFR 4.34(b). Agencies may obtain copies of the application directly from the applicant. Each filing must be accompanied by proof of service on all persons listed on the service list prepared by the Commission in this proceeding, in accordance with 18 CFR 4.34(b), and 385.2010.

o. Procedural Schedule (supercedes Procedural Schedule notice dated October 22, 2004): The application will be processed according to the following schedule. Revisions to the schedule may be made as appropriate.

Milestone | Date
Application Acceptance | October 22, 2004.
Interventions & Protests due (60 days after Application Acceptance) | December 20, 2004.
Additional Information Due (90 days from Application Acceptance) | January 19, 2005.
Notice for Mandatory Terms & Conditions, Recommendations, Application Amendments, Ready for Environmental Analysis | March 15, 2005.
Application Amendments Due | June 11, 2005.
Portland General Electric files Settlement Agreement In Principle and Biological Evaluation, and resubmits 401 Water Quality Certificate application | June 30, 2005.
Mandatory Terms & Conditions & Recommendations due | July 11, 2005.
Portland General Electric's reply to Mandatory Terms & Conditions and Recommendations | August 24, 2005.
Issue Draft Environmental Impact Statement (DEIS) and Biological Assessment; Initiate Endangered Species Act Consultation (ESA) | November 14, 2005.
Comments due on DEIS (45 days after issuance) | December 28, 2005.
ESA Completed; Biological Opinion due (135 days from initiation) | March 28, 2006.
Final Environmental Impact Statement (FEIS) Issued | May 29, 2006.
Forest Service files final 4(e) conditions (30 days after FEIS) | June 27, 2006.
Action due on 401 Water Quality Certificate application (one year after submittal) | June 30, 2006.
Ready for Commission Action | September 30, 2006.

Magalie R. Salas,
Secretary.

[FR Doc. E5-1226 Filed 3-21-05; 8:45 am]

BILLING CODE 6717-01-P